NATIONAL ARCHIVES AND RECORDS ADMINISTRATION

[NARA-2016-005]

Advisory Committee on the Records of Congress; Meeting

AGENCY: National Archives and Records Administration (NARA).

ACTION: Notice of Federal Advisory Committee meeting.

SUMMARY: In accordance with the Federal Advisory Committee Act (5 U.S.C. App), NARA announces an upcoming meeting of the Advisory Committee on the Records of Congress.

DATES: The meeting will be on Monday, December 14, 2015, from 10:00 a.m. to 11:30 a.m. EST.

Location: National Archives and Records Administration, 700 Pennsylvania Avenue NW.; Archivist's Reception Room (Room 105), Washington, DC 20408.

FOR FURTHER INFORMATION CONTACT: Center for Legislative Archives, by mail at 700 Pennsylvania Avenue NW., Washington, DC 20408, by telephone at (202) 357-5350, or by email at sharon.fitzpatrick@nara.gov.

SUPPLEMENTARY INFORMATION: Committee purpose. The committee advises NARA on the full range of programs, policies, and plans for the Center for Legislative Archives in the Office of Legislative Archives, Presidential Libraries, and Museum Services (LPM).

Agenda:

(1) Chair's Opening Remarks—Secretary of the U.S. Senate

(2) Recognition of Co-chair—Clerk of the U.S. House of Representatives

(3) Recognition of the Archivist of the United States

(4) Approval of the minutes of the last meeting

(5) Senate Archivist's report

(6) House Archivist's report

(7) Center Update

(8) Other current issues and new business

Procedures. The meeting is open to the public. Due to space limitations and access procedures, you must submit the name and telephone number of individuals planning to attend to sharon.fitzpatrick@nara.gov no later than Thursday, December 10, 2015. You will also go through security screening when you enter the building.

Dated: November 18, 2015.
Patrice Murray,
Committee Management Officer.

[FR Doc. 2015-30040 Filed 11-24-15; 8:45 am]

BILLING CODE 7515-01-P